ENVIRONMENTAL PROTECTION AGENCY

[FRL-12900-01-R8]

Clean Air Act Operating Permit Program; Order on Petition for Objection to State Operating Permit for Kinder Morgan Altamont, LLC—Altamont South Compressor Station

AGENCY: Environmental Protection Agency (EPA).

ACTION: Notice of final order on petition.

SUMMARY: The Environmental Protection Agency (EPA) Administrator signed an order dated May 30, 2025, granting a petition dated October 15, 2024, from the Center for Biological Diversity. The petition requested that the EPA object to a Clean Air Act (CAA) operating permit issued by the Utah Department of Environmental Quality (UDEQ) to Kinder Morgan Altamont, LLC for its compressor station located in Duchesne, County.

FOR FURTHER INFORMATION CONTACT: Julia Witteman, EPA Region 8, telephone number: (303) 312-6156, email address: witteman.julia@epa.gov. The final order and petition are available electronically at: https://www.epa.gov/title-v-operating-permits/title-v-petition-database.

SUPPLEMENTARY INFORMATION: The EPA received a petition from the Center for Biological Diversity dated October 15, 2024, requesting that the EPA object to the issuance of operating permit no. 1300041005, issued by UDEQ to Kinder Morgan Altamont, LLC in Duchesne County Utah. On May 30, 2025, the EPA Administrator issued an order granting the petition. The order itself explains the basis for the EPA's decision.

Cyrus Western,
Regional Administrator, Region 8.

[FR Doc. 2025-15444 Filed 8-13-25; 8:45 am]

BILLING CODE 6560-50-P